DEPARTMENT OF TRANSPORTATION

National Highway Traffic Safety Administration

[Docket No. NHTSA 2000-8105; Notice 1]

Accuride Corporation; Receipt of Application for Decision of Inconsequential Noncompliance

Accuride Corporation of Evansville, Indiana, a major manufacturer of truck rims and wheels, has determined that approximately 3,700 20 × 7.5 FL side rings produced by Accuride de Mexico (AdM), Accuride's wholly-owned subsidiary, at its Monterrey, Mexico plant and Industria Automotriz S.A. de C.V. (IaSa), a Mexican corporation and Accuride's Mexican joint venture partner contain a noncompliance with Federal Motor Vehicle Safety Standard (FMVSS) 120, “Tire Selection and Rims for Motor Vehicles Other Than Passenger Cars.”

Pursuant to 49 U.S.C. 30118(d) and 30120(h), Accuride has petitioned for a determination that this condition is inconsequential to motor vehicle safety and has filed an appropriate report pursuant to 49 CFR Part 573, “Defect and Noncompliance Reports.”

This notice of receipt of an application is published under 49 U.S.C. 30118 and 30120 and does not represent any agency decision or other exercise of judgment concerning the merits of the application.

The noncompliance relates to the mis-stamping of the marking of the rings. The stamped symbol which indicates the size and type of the ring, in this case was inadvertently stamped as “R7.5 × 20 FL” instead of “20 × 7.5 FL.” Accuride states “All other stampings and markings required by FMVSS 120 and Accuride, including the part number and load rating, are correctly identified on each of the components in question. This ring marking is for information only and there is no safety-related issue potentially arising from the exclusion of these symbols on the rings.” A total of approximately 896 rings were produced by AdM from January 3, 2000 and February 18, 2000 and approximately 2,804 rings were produced by IaSa and sold by Accuride prior to January 3, 2000.

Accuride believes that there is no safety-related issue with respect to this equipment.

Interested persons are invited to submit written data, views, and arguments on the application described above. Comments should refer to the docket number and be submitted to: U.S. Department of Transportation, Docket Management, Room PL-401, 400 Seventh Street, SW., Washington, DC 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: April 2, 2001.

(49 U.S.C. 301118, 301120; delegations of authority at 49 CFR 1.50 and 501.8)

Issued on: February 26, 2001.
Stephen R. Kratzke,
Associate Administrator for Safety Performance Standards.

[FR Doc. 01-5111 Filed 3-1-01; 8:45 am]

BILLING CODE 4910-59-P